DEPARTMENT OF EDUCATION

[Docket No.: ED-2018-ICCD-0072]

Agency Information Collection Activities; Comment Request; 2019-20 National Postsecondary Student Aid Study (NPSAS: 20) Field Test Institution Contacting and Enrollment List Collection

AGENCY: National Center for Education Statistics (NCES), Department of Education (ED).

ACTION: Notice.

SUMMARY: In accordance with the Paperwork Reduction Act of 1995, ED is proposing a revision of an existing information collection.

DATES: Interested persons are invited to submit comments on or before September 4, 2018.

ADDRESSES: To access and review all the documents related to the information collection listed in this notice, please use http://www.regulations.gov by searching the Docket ID number ED-2018-ICCD-0072. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 206-06, Washington, DC 20202-4537.

FOR FURTHER INFORMATION CONTACT: For specific questions related to collection activities, please contact Kashka Kubzdela, 202-245-7377 or email NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2019-20 National Postsecondary Student Aid Study (NPSAS: 20) Field Test Institution Contacting and Enrollment List Collection.

OMB Control Number: 1850-0666.

Type of Review: A revision of an existing information collection.

Respondents/Affected Public: Individuals or Households.

Total Estimated Number of Annual Responses: 794.

Total Estimated Number of Annual Burden Hours: 726.

Abstract: The 2019-20 National Postsecondary Student Aid Study (NPSAS:20) is a nationally representative cross-sectional study of how students and their families finance education beyond high school in a given academic year. NPSAS is conducted by the National Center for Education Statistics (NCES) and was first implemented by NCES during the 1986-87 academic year and has been fielded every 2 to 4 years since. This request is to conduct a field test in preparation for the 11th cycle in the NPSAS series that will be conducted during the 2019-20 academic year. NPSAS:20 also will serve as the base year data collection for the Beginning Postsecondary Students Longitudinal Study (BPS), a study of first-time beginning postsecondary students that will be conducted three years (BPS:20/22) and six years (BPS:20/25) after beginning their postsecondary education. This request covers NPSAS:20 field test materials and procedures related to institution sampling, institution contacting, enrollment list collection, and enrollment list sampling, which are scheduled to begin by November 2018. In late 2018, NCES will submit a separate request for the NPSAS:20 field test student data collection, including student record data abstraction and student interviews, which in turn are scheduled to begin in January 2019. Following the 2018-19 field test study, NCES will request to conduct the NPSAS:20 full-scale data collection, scheduled to take place from October 1, 2019 through September 2020. The materials that will be used in the 2019-20 full-scale study will be based upon the field test materials included in this submission and in the forthcoming student data collection submission.

Dated: June 29, 2018.
Kate Mullan,
Acting Director, Information Collection Clearance Division, Office of the Chief Privacy Officer, Office of Management.

[FR Doc. 2018-14441 Filed 7-3-18; 8:45 am]

BILLING CODE 4000-01-P